DEPARTMENT OF HEALTH AND HUMAN SERVICES

Administration for Children and Families

[OMB #: 0970-0145]

Submission for Office of Management and Budget Review; Temporary Assistance for Needy Families (TANF) Program State Plan Guidance

AGENCY: Office of Family Assistance, Administration for Children and Families, U.S. Department of Health and Human Services.

ACTION: Request for public comments.

SUMMARY: The Administration for Children and Families (ACF) is requesting a 3-year extension of the Temporary Assistance for Needy Families (TANF) Program State Plan Guidance (TANF Program State Plan; Office of Management and Budget #0970-0145, expiration October 31, 2025). There are no changes requested to this information collection.

DATES: Comments due December 26, 2025.

ADDRESSES: The public may view and comment on this information collection request at: https://www.reginfo.gov/public/do/PRAViewICR?ref_nbr=202511-0970-008. You can also obtain copies of the proposed collection of information by emailing infocollection@acf.hhs.gov. Identify all emailed requests by the title of the information collection.

SUPPLEMENTARY INFORMATION:

Description: The TANF Program State Plan is a mandatory statement submitted to the Secretary of the U.S. Department of Health and Human Services by the state. 42 U.S.C. 602. It consists of an outline specifying how the state's TANF program will be administered and operated and contains certain required certifications by the state's Chief Executive Officer. 42 U.S.C. 602(a). It is used to provide the public with information about the program. 42 U.S.C. 602(c). Authority to require states to submit a State TANF Plan is contained in section 402 of the Social Security Act (42 U.S.C. 602), as amended by the Personal Responsibility and Work Opportunity Reconciliation Act of 1996, Public Law 104-193, 110 Stat. 2105. States are required to submit new plans within a 27-month period. 42 U.S.C. 602(a).

Respondents: The 50 states of the U.S, the District of Columbia, Guam, Puerto Rico, and the U.S. Virgin Islands.

Annual Burden Estimates

The state TANF plan requirements for the 54 states (which includes three territories and the District of Columbia) will create a triennial burden with an average of 18 states responding annually. We estimate the annual burden to be an average of 30 hours per response. We also estimate that the triennial burden of plan amendments for the 54 states, with an average of 18 respondents annually spending approximately 3 hours per response.

Instrument | Total number of respondents per year | Total number of annual responses per respondent | Average burden hours per response | Annual burden hours
Title Amendments | 18 | 1 | 3 | 54
State TANF plan | 18 | 1 | 30 | 540
Estimated Total Annual Burden Hours |  |  |  | 594

Authority: 42 U.S.C. 602.

Mary C. Jones,
ACF/OPRE Certifying Officer.

[FR Doc. 2025-21106 Filed 11-25-25; 8:45 am]

BILLING CODE 4184-36-P